DEPARTMENT OF LABOR

Employment and Training Administration

[TA-W-62,426]

Flextronics Enclosures, Including On-Site Leased Workers of Manpower and Coast Personnel, Youngsville, NC; Notice of Termination of Investigation

Pursuant to section 221 of the Trade Act of 1974, as amended, an investigation was initiated on November 7, 2007, in response to a worker petition filed on behalf of workers at Flextronics Enclosures, Youngsville, North Carolina.

The petitioning group of workers is covered by an active certification, (TA-W-62,486) which expires on November 7, 2009. Consequently, further investigation in this case would serve no purpose, and the investigation has been terminated.

Signed in Washington, DC, this 7th day of December 2007.
Richard Church,
Certifying Officer, Division of Trade Adjustment Assistance.

[FR Doc. E7-24537 Filed 12-18-07; 8:45 am]

BILLING CODE 4510-FN-P